FEDERAL COMMUNICATIONS COMMISSION

[Report No. 2649]

Petitions for Reconsideration of Action in Docketed Proceedings

February 25, 2004.

Petitions for Reconsideration have been filed in the Commission's license transfer proceeding listed in this Public Notice. The full text of this document is available for viewing and copying in Room CY-A257, 445 12th Street, SW., Washington, DC, or may be purchased from the Commission's copy contractor, Qualex International (202) 863-2893. Oppositions to these petitions must be filed by March 19, 2004. See Section 1.4(b)(1) of the Commission's rules (47 CFR 1.4(b)(1)). Replies to an opposition must be filed within 10 days after the time for filing oppositions have expired.

Subject: In the Matter of General Motors Corporation and Hughes Electronics Corporation, Transferors (MB Docket No. 03-124); and The News Corporation Limited, Transferee, For Authority to Transfer Control.

Number of Petitions Filed: 2.

Marlene H. Dortch,
Secretary.

[FR Doc. 04-4881 Filed 3-3-04; 8:45 am]

BILLING CODE 6712-01-M